DEPARTMENT OF THE INTERIOR

Bureau of Land Management

[LLCOF00000-L19900000.PO0000-17X]

Notice of Public Meeting, Rocky Mountain Resource Advisory Council, Colorado

AGENCY: Bureau of Land Management, Interior.

ACTION: Notice.

SUMMARY: In accordance with the Federal Land Policy and Management Act and the Federal Advisory Committee Act of 1972, the U.S. Department of the Interior, Bureau of Land Management (BLM) Rocky Mountain Resource Advisory Council (RAC) will meet as indicated below.

DATES: The meeting will be held on March 9, 2017, from 9 a.m. to 4 p.m.

ADDRESSES: The meeting will be held at the BLM Royal Gorge Field Office, 3028 E. Main St., Cañon City, CO 81212.

FOR FURTHER INFORMATION CONTACT: Jayson Barangan, Lead Public Affairs Specialist, BLM Colorado State Office, 2850 Youngfield St., Lakewood, CO 80215. Phone: (303) 239-3681. Email: jbaranga@blm.gov. Persons who use a telecommunications device for the deaf (TDD) may call the Federal Relay Service at 1-800-877-8339 to contact the above individual during normal business hours. The Service is available 24 hours a day, 7 days a week, to leave a message or question with the above individual. You will receive a reply during normal business hours.

SUPPLEMENTARY INFORMATION: The 15-member RAC advises the Secretary of the Interior, through the BLM, on a variety of planning and management issues on public lands in the Rocky Mountain District, which includes the Gunnison, Royal Gorge, and San Luis Valley field offices in Colorado. The planned topic of discussion is a review of the preliminary alternatives report for the Eastern Colorado Resource Management Plan. The public is encouraged to make oral comments to the RAC at 9:15 a.m., or written statements may be submitted for the RAC's consideration. Summary minutes for the RAC meetings will be maintained in the Royal Gorge Field Office and will be available for public inspection and reproduction during regular business hours within 30 days following the meeting. Previous minutes and agendas are available at: https://www.blm.gov/get-involved/resource-advisory-council/near-you/colorado/rocky-mountain-rac/minutes.

Ruth Welch,
BLM Colorado State Director.

[FR Doc. 2017-03811 Filed 2-24-17; 8:45 am]

BILLING CODE 4310-JB-P